DEPARTMENT OF ENERGY

Federal Energy Regulatory Commission

[Docket No. EL05-51-002]

Wisconsin Public Service Corporation v. Midwest Independent Transmission System Operator, Inc.; Notice of Compliance Filing

June 16, 2005.

Take notice that on June 3, 2005, Midwest Independent Transmission System Operator, Inc., (Midwest ISO) submitted a compliance filing pursuant to the Commission's Order issued April 29, 2005, in Wisconsin Public Service Corporation v. Midwest Independent Transmission System, Operator, Inc., 111 FERC ¶ 61,131 (2005).

Any person desiring to intervene or to protest in the above proceeding must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filing in the above proceeding is accessible in the Commission's eLibrary system. It is also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Comment date: 5 p.m. eastern time on July 5, 2005.

Linda Mitry,
Deputy Secretary.

[FR Doc. E5-3372 Filed 6-28-05; 8:45 am]

BILLING CODE 6717-01-P